DEPARTMENT OF THE INTERIOR

Fish and Wildlife Service

Environmental Documents To Amend a Habitat Conservation Plan for Federally Protected Native Fish Species on Plum Creek Timber Company Lands in Washington, Idaho, and Montana

AGENCY: Fish and Wildlife Service, Interior.

ACTION: Notice of intent to prepare a supplemental environmental impact statement.

SUMMARY: In accordance with the National Environmental Policy Act this notice advises the public that the Fish and Wildlife Service (Service) intends to gather information necessary to prepare a Supplemental Environmental Impact Statement for a Proposed Amendment to the Plum Creek Native Fish Habitat Conservation Plan and request for issuance of an incidental take permit to take endangered and threatened species in accordance with section 10(a)(1)(B) of the Endangered Species Act of 1973, as amended. The Permit applicant is Plum Creek Timber Company. The proposed amendment would add the grizzly bear to the existing permit and extend coverage of the Native Fish Habitat Conservation Plan (NFHCP) to additional Plum Creek lands. This document would supplement the September 2000 Final Environmental Impact Statement (FEIS) and NFHCP for federally protected native fish species on Plum Creek Timber Company lands.

A public meeting will be held from 3-7 p.m. MST on February 6, 2002, at the Montana Department of Fish, Wildlife, and Parks Headquarters, 490 N. Meridian Road, Kalispell, Montana 59901. Comments and participation in the process are solicited.

DATES: The public meeting will be held from 3-7 p.m. MST on February 6, 2002, at the Montana Department of Fish, Wildlife, and Parks Headquarters, 490 N. Meridian Road, Kalispell, Montana. Written comments from all interested parties must be received on or before February 21, 2002 to be considered.

ADDRESSES: Comments, materials, and requests for information should be sent to Tim Bodurtha, Plum Creek Scoping Comments, U.S. Fish and Wildlife Service, 780 Creston Hatchery Road, Kalispell, Montana 59901, telephone (406) 758-6882, facsimile (406) 758-6877.

FOR FURTHER INFORMATION CONTACT: Tim Bodurtha, Kalispell Sub-office, U.S. Fish and Wildlife Service (see ADDRESSES above).

SUPPLEMENTARY INFORMATION: Section 9 of the Endangered Species Act (Act) of 1973, as amended (16 U.S.C. 1531 et seq.), prohibits the “taking” of any threatened or endangered species. However, the Fish and Wildlife Service, under limited circumstances, may issue permits to take threatened and endangered wildlife species if such taking is incidental to, and not the purpose of, otherwise lawful activities. Regulations governing permits for threatened and endangered species are outlined in 50 CFR 17.22.

Background

On October 24, 2000, the Fish and Wildlife Service issued an incidental take permit under section 10(a)(1)(B) of the Act to Plum Creek Timber Company. The permit authorizes the incidental take of 17 native fish species, as identified in the FEIS (U.S. Fish and Wildlife Service 2000), from certain Plum Creek activities on Plum Creek timberlands covering approximately 1.6 million acres in Washington, Idaho, and Montana. Plum Creek is proposing to amend this current NFHCP by adding the grizzly bear to the permit and by extending coverage of the NFHCP to additional Plum Creek lands in Montana. The NFHCP Project Area lands addressed in the proposed amendment encompass 70,826 acres of timberlands owned and managed by Plum Creek within the range of the grizzly bear. Approximately 38,148 acres are in the Cabinet-Yaak Ecosystem and 32,678 acres in the Northern Continental Divide Ecosystem. In addition, the amendment would extend coverage of the NFHCP to an additional 14,892 acres which was evaluated in the original FEIS (U.S. Fish and Wildlife Service 2000). However, coverage was postponed until an amendment to the NFHCP for the addition of grizzly bear was completed.

Of the total acres of Plum Creek lands covered under the NFHCP in Montana (1.4 million acres), the proposed amendment applies to 70,826 acres, or 5.0 percent and portions of the following counties in western Montana—Lincoln, Sanders, Flathead, Lake, Missoula, Powell, and Lewis and Clark. The proposed amendment requests incidental take authorization for take that occurs as a result of the following activities as described in the FEIS (U.S. Fish and Wildlife Service 2000)—(1) Commercial forestry and associated activities—Silvicultural activities such as tree planting, site preparation, timber harvest in riparian and upland areas, stand maintenance, prescribed burning, and forest nurseries and seed orchards; Logging road construction and maintenance; Gravel quarrying primarily for logging road construction; (2) Forest fire suppression; (3) Open range cattle grazing; (4) Miscellaneous forest and land product sales; Gravel and landscaping stones; (5) Conservation activities—Habitat enhancement and restoration; Scientific surveys and studies; (6) Special forest use permits—Commercial outfitting; Special recreation permits, such as club activities; Electronic facility sites; (7) Manufacturing of forest products, such as milling activities, lumber mills, plywood mills, and remanufacturing plants.

The proposed amendment to the Plum Creek NFHCP provides for conservation of the threatened grizzly on Plum Creek lands in Montana. It further would extend conservation commitments for the threatened bull trout and four unlisted native salmonids; the redband and westslope cutthroat trout, mountain whitefish, and pygmy whitefish. The proposal to amend the NFHCP would not affect the 30-year term of the permit.

Authority: The authority for this action is the Endangered Species Act of 1973, as amended (16 U.S.C. 1531 et seq.) and the National Environmental Policy Act of 1969, as amended (42 U.S.C. 4321 et seq.).

Dated: January 4, 2002.
Elliott Sutta,
Regional Director, Region 6, Fish and Wildlife Service.

[FR Doc. 02-1449 Filed 1-18-02; 8:45 am]

BILLING CODE 4310-55-P